DEPARTMENT OF HEALTH AND HUMAN SERVICES

Administration for Children and Families

Submission for OMB Review; State Access and Visitation Grant Application (OMB #0970-0482)

AGENCY: Office of Child Support Enforcement, Administration for Children and Families, HHS.

ACTION: Request for public comment.

SUMMARY: The Office of Child Support Enforcement is requesting a three-year extension of the application form titled, Child Access and Visitation Grant Application Form, expiration 8/31/2019. There are no changes requested to the form.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The application compiles detailed information regarding program administration, services planned, state priorities, and program safeguards for using grant funds to increase noncustodial parent access to and visitation with their children. This information allows OCSE to review states' Access and Visitation services for the purpose of ensuring compliance with federal regulation and to provide enhanced targeted technical assistance as indicated. The application is submitted one time at the beginning of a three year grant program cycle and only updated during the three years if a grantee proposes substantive programmatic or administrative change.

Respondents: State Governments.

Annual Burden Estimates
Instrument | Total number of respondents | Number of responses per respondent | Average burden hours per response | Total burden hours | Annual burden hours
Child Access and Visitation Grant Application Form | 54 | 1 | 10 | 540 | 180

Estimated Total Annual Burden Hours: 180.

Authority: Sec. 469B. [42 U.S.C.669b].

Mary B. Jones,
ACF/OPRE Certifying Officer.

[FR Doc. 2019-08109 Filed 4-22-19; 8:45 am]

BILLING CODE 4184-41-P